DEPARTMENT OF THE INTERIOR

Bureau of Land Management

[L71220000.JB0000;LVTFKX899000, WYW182548]

Notice of Realty Action; Non-Competitive (Direct) Sale of Public Land in Park County, Wyoming

AGENCY: Bureau of Land Management, Interior.

ACTION: Notice of realty action.

SUMMARY: The Bureau of Land Management (BLM) proposes a non-competitive (direct) sale of 1.31 acres of public land in Park County, Wyoming, to the Jeanne S. Moeller Trust pursuant to the Federal Land Policy and Management Act of 1976 (FLPMA), as amended, to resolve an unauthorized use of public lands. The sale will be subject to the applicable provisions of Section 203 of FLPMA, and BLM regulations. The appraised fair market value for the sale parcel is $1,250.

DATES: Interested parties may submit written comments regarding the sale until August 30, 2018.

ADDRESSES: Mail written comments concerning this notice to Field Manager, BLM Cody Field Office, 1002 Blackburn Street, Cody, Wyoming 82414.

FOR FURTHER INFORMATION CONTACT: Cara Blank, Realty Specialist, at the above address, by email at cblank@blm.gov, or telephone 307-578-5912. Persons who use a telecommunications device for the deaf (TDD) may call the Federal Relay Service (FRS) at 1-800-877-8339 to contact the above individual during normal business hours. The FRS is available 24 hours a day, 7 days a week, to leave a message or question with the above individual. You will receive a reply during normal business hours.

SUPPLEMENTARY INFORMATION: The following described public land in Park County, Wyoming, has been examined and found suitable for sale under the authority of Section 203 of FLPMA, as amended:

Sixth Principle Meridian

T. 55 N, R. 100 W,

Sec. 10, lot 4.

The areas described contains 1.31 acres in Park County, Wyoming.

The sale is in conformance with the BLM Cody Resource Management Plan, which identifies this parcel of public land as suitable for disposal on page 105 and management action 6011, approved on September 18, 2015. The parcel is not needed for any other Federal purpose. The regulations at 43 CFR 2711.3-3(a) permit the BLM to make direct sales of public lands when a competitive sale is not appropriate and the public interest would be best served by a direct sale. A competitive sale is not appropriate because these lands contain improvements owned by the Jeanne S. Moeller Trust, rendering the land not usable by the public. The public interest would be served by resolving this inadvertent unauthorized use and receiving the fair market value for the lands.

On August 30, 2018, the above-described lands will be segregated from appropriation under the public lands laws, including the mining laws, except the sale provision of the FLPMA. Until completion of the sale action, the BLM is no longer accepting land use applications affecting the public land, except applications for the amendment of previously-filed, right-of-way applications or existing authorizations to increase the term of the grants in accordance with 43 CFR 2807.15 and 2886.15. The temporary segregative effect will terminate upon the issuance of a patent, publication in the Federal Register of a termination of the segregation, or on July 16, 2020, unless extended by the BLM Wyoming State Director in accordance with 43 CFR 2711.1-2(d) prior to the termination date.

In addition, this Notice will publish once each week for three weeks in the Powell Tribune newspaper.

The following terms, conditions, and reservations will appear on the conveyance document for the sale parcel:

1. A right-of-way is reserved for ditches or canals constructed by the authority of the United States, Act of August 30, 1890 (43 U.S.C. 945);

2. A reservation of all minerals to the United States, and the right to prospect for, mine, and remove such minerals under applicable law and such regulations as established by the Secretary of the Interior, together with all necessary access and exit rights.

3. The parcel is subject to valid existing rights.

Only written comments submitted by postal service or overnight mail will be considered as properly filed. Electronic mail, facsimile, or telephone comments will not be considered.

Before including your address, phone number, email address, or other personally identifiable information in your comment, you should be aware that your entire comment—including your personally identifiable information—may be made publicly available at any time. While you can ask the BLM in your comment to withhold your personally identifiable information from public review, we cannot guarantee that we will be able to do so. Comments, including names and street addresses of respondents, will be available for public review at the BLM Cody Field Office during regular business hours, except holidays.

Any comments regarding the sale will be reviewed by the BLM Wyoming State Director or other authorized official of the Department of the Interior, who may sustain, vacate, or modify this realty action.

Authority: 43 CFR 2711.

Mary Jo Rugwell,
Wyoming State Director.

[FR Doc. 2018-15061 Filed 7-13-18; 8:45 am]

BILLING CODE 4310-22-P